DEPARTMENT OF JUSTICE

Notice of Lodging of Proposed Consent Decree Under the Clean Air Act

On June 26, 2013, the Department of Justice lodged a proposed Consent Decree with the United States District Court for the Southern District of Illinois in the lawsuit entitled United States, et al. v. Gateway Energy & Coke Company, et al., Civil Action No. 3:13-cv-00616-DRH-SCW.

The United States, on behalf of the U.S. Environmental Protection Agency, has filed a complaint under the Clean Air Act asserting claims relating to two Midwestern heat recovery coking facilities, one of which is located in Granite City, Illinois (the “Gateway Facility”), and the other of which is located in Franklin Furnace, Ohio (the “Haverhill Facility”). The United States seeks civil penalties and injunctive relief against the owners and operators of the Gateway and Haverhill Facilities. The Haverhill Coke Company, LLC, formerly known as the Haverhill North Coke Company, is an owner and operator of the Haverhill Facility along with SunCoke Energy, Inc. (“SunCoke”) (together “the Haverhill Defendants”). The Gateway Energy & Coke Company, LLC is an owner and operator of the Gateway Facility along with SunCoke (together “the Gateway Defendants”).

The States of Illinois and Ohio are co-plaintiffs in this action. The State of Illinois asserts claims in this action relating to the Gateway Facility under the Illinois Environmental Protection Act (“Illinois Act”), 415 ILCS 5/1 et seq. (2010), and seeks injunctive relief and civil penalties against the Gateway Defendants for violations of the Illinois Act. The State of Ohio asserts claims in this action relating to the Haverhill Facility under Chapter 3745 of the Ohio Revised Code (“ORC”), and the rules adopted thereunder, and seeks injunctive relief and civil penalties against the Haverhill Defendants for violations of ORC Chapter 3704. The Complaint alleges that Gateway Defendants operated the Gateway Facility and the Haverhill Defendants operated the Haverhill Facility in excess of bypass venting limits specified in their Prevention of Significant Deterioration permits, and that the Haverhill Defendants failed to comply with emissions monitoring and reporting requirements.

The Consent Decree would require (1) installation of process equipment to provide redundancy that will allow hot coking gases to be routed to a pollution control device instead of vented directly to the atmosphere in the event of equipment downtime; (2) installation of continuous emissions monitor for sulfur dioxide at one bypass vent per process unit (two at the Haverhill Facility and one at the Gateway Facility); (3) payment of a civil penalty of $1.995 million, of which $1.27 million will go to the United States, $575,000 to the State of Illinois, and $150,000 to the State of Ohio; and (4) performance of a lead hazard abatement supplemental environmental project at a cost of $255,000 at the Gateway Facility.

The publication of this notice opens a period for public comment on the Consent Decree. Comments should be addressed to the Assistant Attorney General, Environment and Natural Resources Division, and should refer to United States, et al. v. Gateway Energy & Coke Company, et al., D.J. Ref. Nos. 90-5-2-1-09890 and 90-5-2-1-10065. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $29.75 (25 cents per page reproduction cost) payable to the United States Treasury. For a paper copy without the exhibits and signature pages, the cost is $16.25.

Maureen Katz,
Assistant Section Chief, Environmental Enforcement Section, Environment and Natural Resources Division.

[FR Doc. 2013-15775 Filed 7-1-13; 8:45 am]

BILLING CODE 4410-15-P